DEPARTMENT OF DEFENSE

Office of the Secretary of Defense

Renewal of Department of Defense Federal Advisory Committees

AGENCY: DoD.

ACTION: Renewal of Federal Advisory Committee.

SUMMARY: Under the provisions of the Federal Advisory Committee Act of 1972, (5 U.S.C. Appendix, as amended), the Government in the Sunshine Act of 1976 (5 U.S.C. 552b, as amended), and 41 CFR 102-3.65, the Department of Defense gives notice that it is renewing the charter for the Army Education Advisory Committee (hereafter referred to as the Committee).

The Committee is a discretionary federal advisory committee established by the Secretary of Defense to provide the Department of Defense, the Secretary of the Army and the Chief of Staff of the U.S. Army independent advice and recommendations in matters pertaining to the educational, doctrinal, and research policies and activities of the U.S. Army's educational programs, including activities of the U.S. Army's joint professional military education programs. The Committee, in accomplishing its mission: (a) Provides advice to their supported schools; (b) assist in the maintenance of the highest academic standards; and (c) ensure that Army educational policies and techniques are current and equal to those used in the finest institutions of higher education.

The Committee shall be composed of not more than 15 members, who are distinguished members of the field of defense, management, leadership, and academia. Committee members appointed by the Secretary of Defense, who are not federal officers or employees, shall serve as Special Government Employees under the authority of 5 U.S.C. 3109. Committee members shall be appointed on an annual basis by the Secretary of Defense. The Assistant Secretary of the Army for Manpower and Reserve Affairs or designated representative shall serve as the Chairperson, and shall serve at the discretion of the Secretary of Army or designated representative. In addition, the Secretary of Defense and the Secretary of Army or designated representative may invite other distinguished Government officers to serve as non-voting observers of the Committee, and appoint consultants with special expertise to assist the Committee on an ad hoc basis. Committee members shall with the exception of travel and per diem for official travel, serve without compensation.

The Committee shall be authorized to establish subcommittees, as necessary and consistent with its mission, and these subcommittees or working groups shall operate under the provisions of the Federal Advisory Committee Act of 1972, the Government in the Sunshine Act of 1976, and other appropriate federal regulations.

Such subcommittees or workgroups shall not work independently of the chartered Committee, and shall report all their recommendations and advice to the Committee for full deliberation and discussion. Subcommittees or workgroups have no authority to make decisions on behalf of the chartered Committee nor can they report directly to the Department of Defense or any federal officers or employees who are not Committee members.

SUPPLEMENTARY INFORMATION: The Committee shall meet at the call of the Committee's Designated Federal Officer, in consultation with the Committee's chairperson. The Designated Federal Officer, pursuant to DoD policy, shall be a full-time or permanent part-time DoD employee, and shall be appointed in accordance with established DoD policies and procedures. The Designated Federal Officer or duly appointed Alternate Designated Federal Officer shall attend all committee meetings and subcommittee meetings.

Pursuant to 41 CFR 102-3.105(j) and 102-3.140, the public or interested organizations may submit written statements to the Army Education Advisory Committee membership about the Committee's mission and functions. Written statements may be submitted at any time or in response to the stated agenda of planned meeting of the Army Education Advisory Committee.

All written statements shall be submitted to the Designated Federal Officer for the Army Education Advisory Committee, and this individual will ensure that the written statements are provided to the membership for their consideration. Contact information for the Army Education Advisory Committee's Designated Federal Officer can be obtained from the GSA's FACA Database— https://www.fido.gov/facadatabase/public.asp.

The Designated Federal Officer, pursuant to 41 CFR 102-3.150, will announce planned meetings of the Army Education Advisory Committee. The Designated Federal Officer, at that time, may provide additional guidance on the submission of written statements that are in response to the stated agenda for the planned meeting in question.

FOR FURTHER INFORMATION CONTACT: Jim Freeman, Deputy Committee Management Officer for the Department of Defense, 703-601-2554, extension 128.

Dated: March 11, 2008.
L.M. Bynum,
Alternate OSD Federal Register Liaison Officer, Department of Defense.

[FR Doc. E8-5312 Filed 3-14-08; 8:45 am]

BILLING CODE 5001-06-P